DEPARTMENT OF THE INTERIOR

Bureau of Indian Affairs

Submission of Information Collection to the Office of Management and Budget for Review

AGENCY: Bureau of Indian Affairs, Interior.

ACTION: Notice of submission of information collection to the Office of Management and Budget.

SUMMARY: The Bureau of Indian Affairs (BIA) is submitting the information collection on Indian Service Population and Labor Force Estimates for review and renewal as required by the Paperwork Reduction Act of 1995. The OMB Control Number is 1076-0147.

DATES: Submit comments on or before August 12, 2005.

ADDRESSES: You may submit comments on the information collection to the Desk Officer for Department of the Interior at the Office of Management and Budget, by facsimile to (202) 395-6566 or you may send an e-mail to: OIRA_DOCKET@ omb.eop.gov.

Please send copy of your comments to Mr. Harry Rainbolt, Assistant to the Deputy Bureau Director, Tribal Services, Bureau of Indian Affairs, Department of the Interior, 1951 Constitution Avenue, Mail Stop 320-SIB, NW., Washington, DC 20240; Telephone (202) 513-7640, Facsimile (202) 208-3112.

FOR FURTHER INFORMATION CONTACT: You may request further information or obtain copies of the information collection request submission from Mr. Rainbolt, as identified in the ADDRESSES section.

SUPPLEMENTARY INFORMATION: Information is mandated by Congress through Public Law 102-477, Indian Employment, Training and Related Services Demonstration Act (Act) of 1992, section 17. The Bureau of Indian Affairs (BIA) is submitting the information collection for renewal. The Act requires the Secretary to develop, maintain and publish, not less than biennially, a report on the population by gender, income level, age, and availability for work. The report will be submitted to the Senate Indian Affairs Committee, as required by the Act, other Federal agencies and will be available to tribes and the general public upon request.

A request for comments on this information collection request appeared in the Federal Register on March 9, 2005 (70 FR 11687). No comments were received in response to the announcement.

Request for Comments

The Bureau of Indian Affairs requests you to send your comments on this collection to the two locations listed in the ADDRESSES section. Your comments should address:

(a) The necessity of this information collection for the proper performance of the functions of the agency, including whether the information will have practical utility;

(b) The accuracy of the agency's estimate of the burden (hours and cost) of the collection of information, including the validity of the methodology and assumptions used;

(c) Ways we could enhance the quality, utility and clarity of the information to be collected; and

(d) Ways we could minimize the burden of the collection of the information on the respondents, such as through the use of automated collection techniques or other forms of information technology.

Please note that an agency may not sponsor or request, and an individual need not respond to, a collection of information unless it has a valid OMB Control Number.

It is our policy to make all comments available to the public for review at the location listed in the ADDRESSES section, room 320-SIB, during the hours of 8 a.m. to 4 p.m., e.s.t., Monday through Friday, except for legal holidays. If you wish to have your name and/or address withheld, you must state this prominently at the beginning of your comments. We will honor your request according to the requirements of the law. All comments from organizations or representatives will be available for review. We may withhold comments from review for other reasons.

OMB has up to 60 days to make a decision on the submission for renewal, but may make the decision after 30 days. Therefore, to receive the best consideration of your comments, you should submit them closer to 30 days than 60 days.

Information Collection Abstract

OMB Control Number: 1076-0147.

Type of review: Renewal.

Title: Department of the Interior, Bureau of Indian Affairs, Indian Service Population and Labor Force Estimates.

Brief Description of collection: The Office of Tribal Services contacted 10 of the 562 federally recognized Indian tribes. The 10 tribes contacted ranged in size from small (less than 500 members) to large tribes (more than 20,000 members). The estimated time it took each tribe to respond to the biennial report was between 1 hour and 4 days depending on the sophistication of the tribal government. All things considered, it takes each tribe an estimated 8 hours to complete the survey.

Respondents: American Indian Tribes.

Number of Respondents: 562.

Estimated Time per Response: 8 hours.

Frequency of Response: Biennially.

Total Annual Burden to Respondents: 4496 hours biennially.

Total Annual Cost to Respondents: N/A.

Dated: July 5, 2005.
Michael D. Olsen,
Acting Principal Deputy Assistant Secretary—Indian Affairs.

[FR Doc. 05-13761 Filed 7-12-05; 8:45 am]

BILLING CODE 4310-4J-P